DEPARTMENT OF ENERGY

National Nuclear Security Administration

Notice of Intent To Prepare a Supplemental Environmental Impact Statement for the Nuclear Facility Portion of the Chemistry and Metallurgy Research Building Replacement Project at Los Alamos National Laboratory, Los Alamos, NM

AGENCY: U.S. Department of Energy (DOE), National Nuclear Security Administration (NNSA).

ACTION: Notice of intent.

SUMMARY: The Council on Environmental Quality's implementing regulations for the National Environmental Policy Act (NEPA) (40 CFR 1502.9[c][1] and [2]) and DOE's NEPA implementing regulations (10 CFR 1021.314) require the preparation of a supplement to an environmental impact statement (EIS) when there are substantial changes to a proposal or when there are significant new circumstances or information relevant to environmental concerns. DOE may also prepare a supplemental EIS at any time to further the purposes of NEPA. Pursuant to these provisions, the NNSA, a semi-autonomous agency within the DOE, intends to prepare a supplemental environmental impact statement (SEIS) to assess the potential environmental impacts of the construction and operation of the nuclear facility portion of the Chemistry and Metallurgy Research Building Replacement Project (CMRR-NF) at Los Alamos National Laboratory (LANL), Los Alamos, New Mexico.

The CMRR Project, including the CMRR-NF, was the subject of NNSA's Final Environmental Impact Statement for the Chemistry and Metallurgy Research Building Replacement Project at Los Alamos National Laboratory, Los Alamos, New Mexico (DOE/EIS-0350; the CMRR EIS) issued in November 2003, and a February 2004 Record of Decision (ROD) (69 FR 6967). Over time, due in large part to detailed site geotechnical investigations, some aspects of the CMRR-NF Project have changed from what was foreseen when the CMRR EIS was prepared. The potential environmental impacts of these proposed changes will be analyzed in the CMRR-NF SEIS.

DATES: NNSA invites stakeholders and members of the public to submit comments and suggestions on the scope of the SEIS during the SEIS scoping period, which starts with the publication of this Notice and will continue for 30 days until November 1, 2010. NNSA will consider all comments received or postmarked by that date in defining the scope of this SEIS. Comments received or postmarked after that date will be considered to the extent practicable. Two public scoping meetings will be held to provide the public with an opportunity to present comments, ask questions, and discuss concerns regarding the SEIS with NNSA officials. Public scoping meetings will be held on October 19, 2010, at the White Rock Town Hall, 139 Longview Drive, White Rock, New Mexico and October 20, 2010, at the Cities of Gold Casino Hotel, Pojoaque, New Mexico. Both meetings will begin at 4 p.m. and end at 7 p.m. The NNSA will publish additional notices regarding the scoping meetings in local newspapers in advance of the scheduled meetings. Any necessary changes will be announced in the local media.

Any agency, state, pueblo, tribe, or unit of local government that desires to be designated a cooperating agency should contact Mr. John Tegtmeier at the address listed below by the closing date of the scoping period.

ADDRESSES: Written comments or suggestions concerning the scope of the CMRR-NF SEIS or requests for more information on the SEIS and public scoping process should be directed to: Mr. John Tegtmeier, CMRR-NF SEIS Document Manager, U.S. Department of Energy, National Nuclear Security Administration, Los Alamos Site Office, 3747 West Jemez Road, TA-3 Building 1410, Los Alamos, New Mexico, 87544; facsimile at 505-667-5948; or e-mail at: NEPALASO@doeal.gov. Mr. Tegtmeier may also be reached by telephone at 505-665-0113.

In addition to providing comments at the public scoping meetings, all interested parties are invited to record their comments, ask questions concerning the EIS, or request to be placed on the EIS mailing or document distribution list by leaving a message on the SEIS Hotline at (toll free) 1-877-427-9439. The Hotline will provide instructions on how to record comments and requests.

FOR FURTHER INFORMATION CONTACT: For general information on the NNSA NEPA process, please contact: Ms. Mary Martin (NA-56), NNSA NEPA Compliance Officer, U.S. Department of Energy, 1000 Independence Avenue, SW., Washington, DC 20585, or telephone 202-586-9438. For general information about the DOE NEPA process, please contact: Ms. Carol Borgstrom, Director, Office of NEPA Policy and Compliance (GC-54), U.S. Department of Energy, 1000 Independence Avenue, SW., Washington, DC 20585, telephone 202-586-4600, or leave a message at 1-800-472-2756. Additional information about the DOE NEPA process, an electronic archive of DOE NEPA documents, including those referenced in this announcement, and other NEPA resources are provided at http://nepa.energy.gov.

SUPPLEMENTARY INFORMATION: LANL is located in north-central New Mexico, 60 miles north-northeast of Albuquerque, 25 miles northwest of Santa Fe, and 20 miles southwest of Española in Los Alamos and Santa Fe Counties. It is located between the Jemez Mountains to the west and the Sangre de Cristo Mountains and Rio Grande to the east. LANL occupies an area of about 25,600 acres [10,360 hectares] or approximately 40 square miles and is operated for NNSA by a contractor, Los Alamos National Security, LLC. It is a multidisciplinary, multipurpose institution engaged in theoretical and experimental research and development. LANL has been assigned science, research and development, and production mission support activities that are critical to the accomplishment of the NNSA's national security objectives as reflected in the Stockpile Stewardship and Management Programmatic EIS (DOE/EIS-0236) and the Complex Transformation Supplemental Programmatic EIS (DOE/EIS-0236-S4). LANL's main role in NNSA mission objectives includes a wide range of scientific and technological capabilities that support nuclear materials handling, processing and fabrication; stockpile management; materials and manufacturing technologies; nonproliferation programs; research and development support for national defense and homeland security programs; and DOE waste management activities.

The capabilities needed to execute the NNSA mission activities require facilities at LANL that can be used to handle actinides and other radioactive materials in a safe and secure manner. (The actinides are any of a series of 14 chemical elements with atomic numbers ranging from 89 (actinium) through 103 (lawrencium)). Of primary importance are the facilities located within the Chemistry and Metallurgy Research (CMR) Building and the Plutonium Facility (located at Technical Areas (TAs) 3 and 55, respectively), which are used for processing, characterizing, and storage of special nuclear material. (Special nuclear material is defined by the Atomic Energy Act of 1954 as plutonium, uranium-233, or uranium enriched in the isotopes uranium-233 or uranium-235). Most of the LANL mission support functions previously listed require analytical chemistry, material characterization, and actinide research and development support capabilities that currently exist within the CMR Building and are not available elsewhere. Other unique capabilities are located at the adjacent Plutonium Facility. Work is sometimes moved between the CMR Building and the Plutonium Facility to make use of the full suite of capabilities that these two facilities provide. CMR Building operations and capabilities are currently restricted in scope due to safety and security constraints; it cannot be operated to the full extent needed to meet NNSA operational requirements.

The CMR building contains about 550,000 square feet (about 51,100 square meters) of floor space on two floors divided between a main corridor and seven wings. It was constructed in the early 1950s. DOE maintained and upgraded the building over time to provide for continued safe operations. However, beginning in 1997 and 1998, a series of operational, safety, and seismic issues surfaced regarding the long-term viability of the CMR Building. In January 1999, the NNSA approved a strategy for managing operational risks at the CMR Building. The strategy included implementing operational restrictions to ensure safe operations. These restrictions are impacting the assigned mission activities conducted at the CMR Building. This strategy also committed NNSA to develop plans to relocate the CMR capabilities elsewhere at LANL to maintain support of national security and other NNSA missions. The CMRR EIS was prepared and issued in 2003, followed by a ROD in 2004.

The CMRR EIS analyzed four action alternatives: (1) The construction and operation of a new CMRR facility at TA-55; (2) the construction of a new CMRR facility at a “greenfield” location within TA-6; (3) a “hybrid” alternative maintaining administrative offices and support functions at the existing CMR building with a new Hazard Category 2 laboratory facility built at TA-55; and, (4) a “hybrid” alternative with the laboratory facility being constructed at TA-6. The CMRR EIS also analyzed a no action alternative where the existing CMR building would continue to be kept in service. In the 2004 ROD, NNSA announced its decision to implement the preferred alternative (alternative 1): To construct a new CMRR facility which would include a single above-ground, consolidated nuclear material-capable, Hazard Category 2 laboratory building (construction option 3) with a separate, adjacent administrative office and support functions building, now referred to as the CMRR Radiological Laboratory/Utility/Office Building (CMRR RLUOB). Upon completion, the CMRR Facility would replace the CMR Building, operations would be moved to the new CMRR Facility, and the vacated CMR Building would undergo decommissioning, decontamination, and demolition. (While the CMRR RLUOB has been constructed in TA-55 at LANL, the installation of laboratory equipment has not been completed and operations have not begun). Since 2004, the planning process for the construction and operation of the CMRR-NF has continued to progress and take into consideration newly gathered site-specific data and safety and security requirements.

Purpose and Need: The NNSA's purpose and need for proposing the construction and operation of the CMRR-NF have not changed since the CMRR EIS was prepared and issued in 2003. NNSA needs to provide the physical means for accommodating the CMR Building's functional, mission-critical nuclear capabilities, and to consolidate activities for safer and more efficient operations. In the 2003 CMRR EIS, NNSA analyzed the potential environmental impacts associated with the proposed relocation of LANL analytical chemistry (AC) and materials characterization (MC), and associated research and development capabilities that currently exist primarily at the existing CMR building, to a newly constructed facility, and operation of the new facility for the next 50 years. In the May 2008, Final Site-Wide Environmental Impact Statement for Continued Operation of Los Alamos National Laboratory, Los Alamos, New Mexico (DOE/EIS-0380), the CMRR was considered and its potential environmental impacts analyzed as a part of the No Action Alternative and each of the action alternatives for continued operation of LANL.

The potential environmental impacts associated with the construction and operation of the CMRR-NF were also analyzed within certain alternatives in the Complex Transformation SPEIS (DOE/EIS-0236-S4) as part of the proposal to reconfigure and streamline NNSA's nuclear security enterprise. NNSA issued two RODs based on the Complex Transformation SPEIS analysis in December 2008. In the SPEIS ROD for operations involving plutonium, uranium, and the assembly and disassembly of nuclear weapons (73 FR 77644), NNSA announced its decision to retain plutonium manufacturing and research and development at LANL, and in support of these activities, to proceed with construction and operation of the CMRR-NF at LANL as essential to its ability to meet national security requirements regarding the nation's nuclear deterrent.

Proposed Action and Alternatives

Proposed Action: The Proposed Action is to construct the CMRR-NF at TA-55. Over time some aspects of the proposed CMRR-NF Project plans have changed. These proposed changes include, for example:

• Changes to the CMRR-NF structure required for seismic safety based on new information from additional geotechnical investigations conducted at the site. These changes involve incorporating additional structural steel and concrete into the building construction and increasing the quantity of material that must be excavated for the building foundation;

• Changes to the infrastructure to support the CMRR-NF construction activities, such as concrete batch plants, construction material lay-down areas and warehouses, and temporary office trailers and parking areas. Some of these changes involve the use of additional acreage. Most of these proposed changes are temporary in duration;

• Changes to the CMRR-NF structure to ensure 10 CFR part 830 nuclear safety basis requirements are met for facility engineering controls to ensure protection of the public, workers, and the environment; and

• Changes to incorporate additional sustainable design principles and environmental conservation measures. These changes minimize the environmental impacts of construction and operation of the CMRR-NF.

The potential environmental impacts of these and similar changes will be analyzed in the CMRR-NF SEIS.

No Action Alternative: The No Action alternative would be the construction of the CMRR-NF and the ancillary and support activities as announced in the 2004 ROD.

CMR Alternative 1: Do not construct a replacement facility to house the capabilities planned for the CMRR-NF. Continue to perform analytical chemistry, material characterization, and actinide research and development activities in the CMR Building, with no facility upgrades, while performing routine maintenance at the level needed to sustain programmatic operations for as long as feasible.

CMR Alternative 2: Same as CMR Alternative 1, but includes making the extensive facility upgrades needed to sustain CMR programmatic operations for another 20 to 30 years.

Preliminary Identification of Environmental Issues. NNSA has tentatively identified the following issues for analysis in this SEIS. Additional issues may be identified as a result of the scoping process.

1. Potential impacts to air, water, soil, visual resources and viewsheds.

2. Potential impacts to plants and animals, and to their habitats, including Federally-listed threatened or endangered species and their critical habitats.

3. Potential impacts from irretrievable and irreversible consumption of natural resources and energy, including transportation issues.

4. Potential impacts to cultural resources, including historical and prehistorical resources and traditional cultural properties.

5. Potential impacts to infrastructure and utilities.

6. Potential impacts to socioeconomic conditions.

7. Potential environmental justice impacts to minority and low-income populations.

8. Potential cumulative impacts from the Proposed Action and alternatives together with other past, present, and reasonably foreseeable actions at LANL.

CMRR-NF SEIS Preparation Process: The scoping process for a NEPA document is an opportunity for the public to assist the NNSA in determining the alternatives and issues for analysis. Alternatives may be added, deleted, or modified as a result of scoping. The purpose of the scoping meetings is to receive oral and written comments from the public. The meetings will use a format to facilitate dialogue between NNSA and the public and will be an opportunity for individuals to provide written or oral statements. NNSA welcomes specific comments or suggestions on the content of these alternatives, or on other alternatives that should be considered. The above list of issues to be considered in the SEIS analysis is tentative and is intended to facilitate public comment on the scope of the SEIS. It is not intended to be all-inclusive, nor does it imply any predetermination of potential impacts. The CMRR-NF SEIS will describe the potential environmental impacts of the alternatives, using available data where possible and obtaining additional data where necessary. Copies of written comments and transcripts of oral comments will be available as soon as practicable after the public scoping meeting on the Internet at: http://www.doeal.gov/laso/NEPADocuments.aspx.

Following the scoping period announced in this Notice of Intent, and after consideration of comments received during scoping, NNSA will prepare a Draft Supplemental Environmental Impact Statement for the Construction of the Chemistry and Metallurgy Replacement Project's Nuclear Facility at Technical Area-55 Within Los Alamos National Laboratory, Los Alamos, New Mexico (DOE/EIS-0350-S1). Comments received on the Draft SEIS during the planned 45-day comment period will be considered and addressed in the Final SEIS, which NNSA anticipates issuing by July 2011. NNSA will issue a ROD no sooner than 30 days after publication by the Environmental Protection Agency of a Notice of Availability of the Final SEIS.

Issued in Washington, DC, this 28th day of September 2010.
Thomas P. D'Agostino,
Administrator, National Nuclear Security Administration.

[FR Doc. 2010-24681 Filed 9-30-10; 8:45 am]

BILLING CODE 6450-01-P